DEPARTMENT OF ENERGY

Federal Energy Regulatory Commission

Combined Notice of Filings #1

Take notice that the Commission received the following electric corporate filings:

Docket Numbers: EC20-3-000.

Applicants: Xcel Energy Inc., Mankato Energy Center, LLC, Mankato Energy Center II, LLC.

Description: Joint Application Authorization Under Section 203 of the Federal Power Act, et al. of Xcel Energy Inc., et al.

Filed Date: 10/3/19.

Accession Number: 20191003-5034.

Comments Due: 5 p.m. ET 10/24/19.

Docket Numbers: EC20-4-000.

Applicants: Tenaska Alabama II Partners, L.P., Alabama Power Company.

Description: Joint Application for Authorization Under Section 203 of the Federal Power Act, et al. of Tenaska Alabama II Partners, L.P., et al.

Filed Date: 10/2/19.

Accession Number: 20191002-5219.

Comments Due: 5 p.m. ET 10/23/19.

Take notice that the Commission received the following exempt wholesale generator filings:

Docket Numbers: EG20-1-000.

Applicants: Poseidon Solar, LLC.

Description: Notice of Self-Certification of Exempt Wholesale Generator Status of Poseidon Solar, LLC.

Filed Date: 10/2/19.

Accession Number: 20191002-5117.

Comments Due: 5 p.m. ET 10/23/19.

Take notice that the Commission received the following electric rate filings:

Docket Numbers: ER19-420-002.

Applicants: Mendota Hills, LLC.

Description: Compliance filing: Compliance Filing Under Docket ER19-420 to be effective 2/1/2019.

Filed Date: 10/3/19.

Accession Number: 20191003-5057.

Comments Due: 5 p.m. ET 10/24/19.

Docket Numbers: ER20-27-000.

Applicants: Wright Solar Park LLC.

Description: Baseline eTariff Filing: Application for MBR, Waivers, Blanket Authority, Confidential & Expedited Action to be effective 12/31/9998.

Filed Date: 10/2/19.

Accession Number: 20191002-5184.

Comments Due: 5 p.m. ET 10/23/19.

Docket Numbers: ER20-28-000.

Applicants: MidAmerican Energy Company.

Description: § 205(d) Rate Filing: Interconnection Agreement—MidAmerican and La Porte City Utilities to be effective 11/1/2019.

Filed Date: 10/3/19.

Accession Number: 20191003-5006.

Comments Due: 5 p.m. ET 10/24/19.

Docket Numbers: ER20-29-000.

Applicants: Midcontinent Independent System Operator, Inc.

Description: § 205(d) Rate Filing: 2019-10-03_SA 3355 METC-Isabella Renewables GIA (J717) to be effective 9/19/2019.

Filed Date: 10/3/19.

Accession Number: 20191003-5022.

Comments Due: 5 p.m. ET 10/24/19.

Docket Numbers: ER20-30-000.

Applicants: Midcontinent Independent System Operator, Inc.

Description: § 205(d) Rate Filing: 2019-10-03_SA 3356 METC-Isabella Renewables II GIA (J728) to be effective 9/19/2019.

Filed Date: 10/3/19.

Accession Number: 20191003-5025.

Comments Due: 5 p.m. ET 10/24/19.

Docket Numbers: ER20-31-000.

Applicants: Northern States Power Company, a Minnesota corporation, Mankato Energy Center, LLC, Mankato Energy Center II, LLC.

Description: Request for Authorization of Affiliate Transactions of Northern States Power Company, a Minnesota corporation, et al.

Filed Date: 10/2/19.

Accession Number: 20191002-5223.

Comments Due: 5 p.m. ET 10/23/19.

Docket Numbers: ER20-32-000.

Applicants: AEP Texas Inc.

Description: § 205(d) Rate Filing: AEPTX-LCRA TSC Hayter Ranch FDA to be effective 9/27/2019.

Filed Date: 10/3/19.

Accession Number: 20191003-5077.

Comments Due: 5 p.m. ET 10/24/19.

Docket Numbers: ER20-33-000.

Applicants: Arizona Public Service Company.

Description: Tariff Cancellation: Service Agreement Nos. 350 and 351 Cancellations to be effective 1/1/2020.

Filed Date: 10/3/19.

Accession Number: 20191003-5109.

Comments Due: 5 p.m. ET 10/24/19.

Docket Numbers: ER20-34-000.

Applicants: PJM Interconnection, L.L.C.

Description: § 205(d) Rate Filing: Revisions to the PJM-MISO JOA, Article IX re: Coordinated System Plan Process to be effective 12/3/2019.

Filed Date: 10/3/19.

Accession Number: 20191003-5125.

Comments Due: 5 p.m. ET 10/24/19.

Docket Numbers: ER20-35-000.

Applicants: Avista Corporation.

Description: § 205(d) Rate Filing: Avista Corp Dry Gulch Construction Agreement SA1159 to be effective 10/4/2019.

Filed Date: 10/3/19.

Accession Number: 20191003-5126.

Comments Due: 5 p.m. ET 10/24/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2019.
Nathaniel J. Davis, Sr.,
Deputy Secretary.

[FR Doc. 2019-22098 Filed 10-8-19; 8:45 am]

BILLING CODE 6717-01-P